DEPARTMENT OF TRANSPORTATION

Coast Guard

46 CFR Parts 91, 115, 132, 133, 134, 189, and 199

[USCG-1999-4976]

RIN 2115-AF73

Frequency of Inspection

AGENCY: Coast Guard, DOT.

ACTION: Final rule; correction.

SUMMARY: The Coast Guard published a final rule in the Federal Register of February 9, 2000, concerning vessel inspection regulations (65 FR 6494). The rule established a 5-year Certificate of Inspection cycle in accordance with the Coast Guard Authorization Act of 1996 to harmonize our inspections with most internationally required certificates. This document corrects errors in that final rule.

DATES: Effective on March 7, 2000.

FOR FURTHER INFORMATION CONTACT: Lieutenant Commander Don Darcy, Office of Standards Evaluation and Development (G-MSR-2), Coast Guard, telephone 202-267-1200.

SUPPLEMENTARY INFORMATION:

Background

The Frequency of Inspection final rule established a 5-year Certificate of Inspection cycle to harmonize our inspections with internationally required certificates. We published the final rule to establish frequency of inspection requirements to meet the International Convention for the Safety of Life at Sea, 1974, and the International Convention on Load Line compliance date of February 3, 2000. Adopting a 5-year COI, with interval annual inspections, and a periodic inspection provides vessel owners and operators with more flexibility to schedule required inspections and reduce paperwork associated with these inspections, while continuing to ensure that U.S. vessels meet international standards and comply with international law.

Need for Correction

As published, the final rule contains typographical errors that may mislead the reader and need to be corrected.

Correction of Publication

Accordingly, the publication on February 9, 2000, of the final rule [USCG-1999-4976], which was the subject of FR Doc. 00-2812, is corrected as follows:

§§ 91.25-20(A) and 91.27-13 [Amended]

1. On page 6501, in § 91.25-20(a) introductory text, remove the number “§ 91.15-60” and add, in its place, the number “§ 97.15-60”

2. On page 6502, in § 91.27-13—

a. In paragraph (c), capitalize the first letter of the word “officer”;

b. In paragraph (d)(3), in the second sentence, capitalize the first letters of the words “certificate” and “inspection” in the phrase “certificate of inspection”; and

c. In paragraphs (d)(5)(iii), immediately following the words “noted during the”, remove the words “during the”.

§ 115.404 [Amended]

3. On page 6504, in § 115.404(b), immediately following the words “expiration date of”, remove the word “the”.

PART 132—[AMENDED]

4. On page 6507, in the authority citation for part 132, remove the number “449” and add, in its place, the number “49”.

PART 133—[AMENDED]

5. On page 6507, in the authority citation for part 133, remove the number “449” and add, in its place, the number “49”.

PART 134—[AMENDED]

6. On page 6507, in the authority citation for part 134, remove the number “449” and add, in its place, the number “49”.

§ 189.25-47 [Amended]

7. On page 6509, in the amendatory instruction for § 189.25-47, remove the periods within quotation marks that immediately follow the words “inspection for certification” and “and periodic inspection”.

PART 199— [AMENDED]

8. On page 6510, in the authority citation for part 199, remove the words “46 CFR” and add, in their place, the words “49 CFR”.

Dated: February 28, 2000.
Joseph J. Angelo,
Director of Standards, Marine Safety and Environmental Protection.

[FR Doc. 00-5488 Filed 3-6-00; 8:45 am]

BILLING CODE 4910-15-M